FEDERAL COMMUNICATIONS COMMISSION

Notice of Public Information Collection(s) Being Submitted to OMB for Review and Approval

February 17, 2000.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 29, 2000. If you anticipate that you will be submitting comments, but find it difficult to do so within the period of time allowed by this notice. you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith, at (202) 418-0217 or via the Internet to lesmith@fcc.gov.

SUPPLEMENTARY INFORMATION: OMB Control Number: 3060-XXXX

Title: 406 MHz Personal Locator Beacons (PLB)

Type of Review: New collection

Respondents: Individuals or households; State, local, or Tribal Government

Number of Respondents: 1050

Estimated Hours Per Response: 0.5 hours

Frequency of Response: On occasion reporting requirement

Estimated Total Annual Burden: 525 hours

Total Annual Cost: None

Needs and Uses: This information collection requires individuals to register data with the National Oceanic and Atmospheric Administration and to gather data for licensing entities. The registration information would be made available to search and rescue personnel to assist in locating a lost individual, and the licensing information would be used to determine whether the applicant is legally and technically qualified to be licenses.

Federal Communications Commission.
Magalie Roman Salas,
Secretary.

[FR Doc. 00-4537 Filed 2-25-00; 8:45 am]

BILLING CODE 6712-01-M